FEDERAL COMMUNICATIONS COMMISSION

47 CFR Part 80

[WT Docket No. 04-257 and RM-10743; FCC 10-6]

Maritime Communications

ACTION: Final rule; correction.

SUMMARY: The Federal Communications Commission published in the Federal Register of February 2, 2010 (75 FR 5241), a document in the Maritime Radio Services, WT Docket No. 04-257, which included a Final Rules Appendix that reflected the amended adoption of a certain rule. This document corrects the amendment of that section as set forth below.

DATES: March 9, 2010.

FOR FURTHER INFORMATION CONTACT: Stana Kimball, Mobility Division, Wireless Telecommunications Bureau, at Stanislava.Kimball@FCC.gov or at (202) 418-1306, or TTY (202) 418-7233.

SUPPLEMENTARY INFORMATION: The Federal Communications Commission published a document in the Federal Register of February 2, 2010 (75 FR 5241) to ensure that its rules governing the Maritime Radio Services continue to promote maritime safety, maximize effective and efficient use of the spectrum available for maritime communications, accommodate technological innovation, avoid unnecessary regulatory burdens, and maintain consistency with international maritime standards to the extent consistent with the United States public interest. This document corrects a rule amendment set forth in the document published in the Federal Register of February 2, 2010 (75 FR 5241).

In rule FR Doc. 2010-2095 published on February 2, 2010 (75 FR 5241), make the following correction:

§ 80.385 [Corrected]

On page 5241, in the third column, revise paragraph (a)(1) to read as follows:

“(a) * * *

(1) The Automated Maritime Communications System (AMTS) is an automated maritime telecommunications system.”

Federal Communications Commission.
Marlene H. Dortch,
Secretary.

[FR Doc. 2010-4603 Filed 3-8-10; 8:45 am]

BILLING CODE 6712-01-P